DEPARTMENT OF COMMERCE

International Trade Administration

(A-427-801, A-559-801)

Antifriction Bearings and Parts Thereof from France and Singapore: Revocation of Antidumping Duty Orders

AGENCY: Import Administration, International Trade Administration, Department of Commerce.

SUMMARY: On June 1, 2005, the Department of Commerce initiated and the International Trade Commission instituted a sunset review of the antidumping duty orders on antifriction bearings and parts thereof from France and Singapore. As a result of the review, the International Trade Commission determined that revocation of the order on spherical plain bearings and parts thereof from France and the order on ball bearings and parts thereof from Singapore would not be likely to lead to continuation or recurrence of material injury to an industry in the United States within a reasonably foreseeable time. Therefore, the Department of Commerce is revoking these two antidumping duty orders.

EFFECTIVE DATE: July 11, 2005.

FOR FURTHER INFORMATION CONTACT: Edythe Artman or Minoo Hatten, Office 5, AD/CVD Operations, Import Administration, International Trade Administration, U.S. Department of Commerce, 14th Street & Constitution Avenue, NW., Washington, DC 20230; telephone: (202) 482-3931 and (202) 482-1690, respectively.

SUPPLEMENTARY INFORMATION:

Scope of the Orders

Ball Bearings and Parts Thereof

The products covered by this order are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS subheadings above are provided for convenience and customs purposes, written descriptions of the scope of this order remain dispositive.

Spherical Plain Bearings, Mounted or Unmounted, and Parts Thereof:

These products include all spherical plain bearings that employ a spherically shaped sliding element and include spherical plain rod ends. Imports of these products are classified under the following HTSUS subheadings: 3926.90.45, 4016.93.00, 4016.93.00, 4016.93.10, 4016.93.50, 6909.50,10, 8483.30.80, 8483.90.30, 8485.90.00, 8708.93.5000, 8708.99.50, 8803.10.00, 8803.10.00, 8803.20.00, 8803.30.00, and 8803.90.90. The HTSUS subheadings are provided for convenience and customs purposes. The written description of the scope of this order is dispositive.

The size or precision grade of a bearing does not influence whether the bearing is covered by one of the orders. These orders cover all the subject bearings and parts thereof (inner race, outer race, cage, rollers, balls, seals, shields, etc.) outlined above with certain limitations. With regard to finished parts, all such parts are included in the scope of the these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations which pertain to the orders, see the “Scope Determination” Memorandum (Scope Memorandum) from the Antifriction Bearings Team to Laurie Parkhill, dated March 2, 2006. The Scope Memorandum is on file in the Central Records Unit (CRU), Main Commerce Building, Room B-099, in the General Issues record (A-100-001) for the 04/05 reviews.

Background

On July 11, 2000, the Department of Commerce (the Department) published the continuation of the antidumping duty orders on certain bearings and parts thereof from France and Singapore resulting from the first sunset review of these orders. See Continuation of Antidumping Duty Orders: Certain Bearings From France, Germany, Italy, Japan, Singapore, the United Kingdom, and the People's Republic of China, 65 FR 42665 (July 11, 2000). Pursuant to section 751(c) of the Tariff Act of 1930, as amended (the Act), and 19 CFR 351.218, the Department initiated and the International Trade Commission (ITC) instituted the second sunset review of the order on spherical plain bearings and parts thereof from France and the order on ball bearings and parts thereof from Singapore on June 1, 2005. See Initiation of Five-year (“Sunset”) Reviews, 70 FR 31423 (June 1, 2005); Certain Bearings From China, France, Germany, Italy, Japan, Singapore, and the United Kingdom, 70 FR 31531 (June 1, 2005). As a result of its review, the Department found that revocation of the orders would likely lead to continuation or recurrence of dumping and notified the ITC of the magnitude of the margin likely to prevail were the orders to be revoked. See Antifriction Bearings and Parts Thereof from France, Germany, Italy, and the United Kingdom; Five-year Sunset Reviews of Antidumping Duty Orders; Final Results, 70 FR 58183 (October 5, 2005); Ball Bearings and Parts Thereof from Japan and Singapore; Five-year Sunset Reviews of Antidumping Duty Orders; Final Results, 71 FR 26321 (May 4, 2006). On August 3, 2006, the ITC determined pursuant to section 751(c) of the Act that revocation of the antidumping duty order on spherical plain bearings and parts thereof from France and the order on ball bearings and parts thereof from Singapore would not be likely to lead to continuation or recurrence of material injury to an industry in the United States within a reasonably foreseeable time. See Certain Bearings From China, France, Germany, Italy, Japan, Singapore, and the United Kingdom, 71 FR 51850 (August 31, 2006) and ITC Publication 3876 (August 2006), entitled Certain Bearings from China, France, Germany, Italy, Japan, Singapore, and the United Kingdom: Investigation Nos. 731-TA-344, 391-A, 392-A and C, 393-A, 394-A, 396, and 399-A (Second Review).

Determination to Revoke

As a result of the determination by the ITC that revocation of these antidumping duty orders is not likely to lead to continuation or recurrence of material injury to an industry in the United States, the Department is revoking the orders on spherical plain bearings and parts thereof from France and on ball bearings and parts thereof from Singapore, pursuant to section 751(d) of the Act. Pursuant to section 751(d)(2) of the Act and 19 CFR 351.222(i)(2)(i), the effective date of revocation is July 11, 2005 (i.e., the fifth anniversary of the date of publication in the Federal Register of the notice of continuation of the antidumping duty orders). The Department will notify U.S. Customs and Border Protection to discontinue suspension of liquidation and collection of cash deposits on entries of the subject merchandise entered or withdrawn from warehouse on or after July 11, 2005, the effective date of revocation of the antidumping duty orders. The Department will complete any pending administrative reviews of these orders and will conduct administrative reviews of subject merchandise entered prior to the effective date of revocation in response to appropriately filed requests for review.

This five-year sunset review and notice are in accordance with section 751(d)(2) and published pursuant to section 777(I)(1) of the Act.

Dated: September 7, 2006.
David M. Spooner,
Assistant Secretary for Import Administration.

[FR Doc. E6-15356 Filed 9-14-06; 8:45 am]

BILLING CODE 3510-DS-S